FEDERAL RESERVE SYSTEM

Agency Information Collection Activities: Announcement of Board Approval Under Delegated Authority and Submission to OMB

AGENCY: Board of Governors of the Federal Reserve System.

SUMMARY: Bckground.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Michelle Long--Division of Research and Statistics, Board of Governors of the Federal Reserve System, Washington, DC 20551 (202-452-3829); OMB Desk Officer--Mark Menchik--Office of Information and Regulatory Affairs, Office of Management and Budget, New Executive Office Building, Room 10235, Washington, DC 20503, or e-mail to mmenchik@omb.eop.gov

Final approval under OMB delegated authority of the extension for three years, without revision, of the following collections of information:

1. Report title: Notice Requirements in Connection with Regulation W (12 CFR Part 223 Transactions Between Member Banks and Their Affiliates)

Agency form number: Reg W

OMB control number: 7100-0304

Frequency: Event-generated

Reporters: Insured depository institutions and uninsured member banks

Estimated annual reporting hours: 250 hours

Estimated average hours per response: Loan participation renewal notice, 2 hours; Acquisition notice, 6 hours; Internal corporate reorganization transactions notice, 6 hours; and Section 23A additional exemption notice, 10 hours.

Estimated number of respondents: 45

General description of report: This information collection is required to evidence compliance with sections 23A and 23B of the Federal Reserve Act (12 U.S.C. 371c(f) and 371c-1(e)). Confidential and proprietary information collected for the purposes of the Loan Participation Renewal notice 12 CFR 223.15(b)(4) may be protected under the authority of the Freedom of Information Act (5U.S.C. § 552(b)(4) and (b)(8)). Section (b)(4) exempts information deemed competitively sensitive from disclosure and Section (b)(8) exempts information “contained in or related to examination, operating, or condition reports prepared by, on behalf of, or for the use of an agency responsible for the regulation or supervision of financial institutions.”

Abstract: Effective April 1, 2003, the Federal Reserve issued Regulation W to implement comprehensively sections 23A and 23B. The Federal Reserve decided to issue such a rule for several reasons. First, the regulatory framework established by the Gramm-Leach-Bliley Act emphasizes the importance of sections 23A and 23B as a means to protect depository institutions from losses in transactions with affiliates. In addition, adoption of a comprehensive rule simplified the interpretation and application of sections 23A and 23B, ensured that the statute is consistently interpreted and applied, and minimized burden on banking organizations to the extent consistent with the statute's goals. Finally, issuing a comprehensive rule allowed the public an opportunity to comment on Federal Reserve interpretations of sections 23A and 23B. On December 12, 2002, the Federal Reserve published a Federal Register notice (67 FR 76603) adopting Reg W.

On March 3, 2006, the Federal Reserve published a notice soliciting comment on this proposal, Regulation W (71 FR 10971). The comment period ended on May 2, 2006. The Federal Reserve did not receive any comments.

2. Report title: Recordkeeping and Disclosure Requirements of Regulation Z

Agency form number: Reg Z

OMB control number: 7100-0199

Frequency: Event-generated

Reporters: State member banks, branches and agencies of foreign banks (other than federal branches, Federal agencies, and insured state branches of foreign banks), commercial lending companies owned or controlled by foreign banks, and organizations operating under section 25 or 25A of the Federal Reserve Act.

Annual reporting hours: Open-end credit--initial disclosure, 28,463 hours; open-end credit--updated disclosures, 41,250 hours; periodic statements, 125,952 hours; error resolution--credit cards, 22,260 hours; error resolution--other open-end credit, 1,312 hours; credit & charge card--solicitations and applications, 29,952 hours; home equity plans--applications disclosure, 13,983 hours; home equity plan--restrictions disclosure, 354 hours; closed-end credit disclosures, 351,354 hours; HOEPA pre-closing disclosures, 425 hours; and advertising, 2,733 hours.

Estimated average hours per response: Open-end credit-- initial disclosure, 1.5 minutes; open-end credit--updated disclosures, 1 minute; periodic statements, 8 hours; error resolution--credit cards, 30 minutes; error resolution--other open-end credit, 30 minutes; credit & charge card--solicitations and applications, 8 hours; home equity plans--applications disclosure, 1.5 minutes; home equity plan--restrictions disclosure, 3 minutes; closed-end credit disclosures, 6.5 minutes; HOEPA pre-closing disclosures, 3 minutes; and advertising rules, 25 minutes.

Number of respondents: State member banks, 947; branches and agencies of foreign banks (other than Federal branches, Federal agencies, and insured state branches of foreign banks), 287; commercial lending companies owned or controlled by foreign banks, 3; and organizations operating under section 25 or 25A of the Federal Reserve Act, 75.

General description of report: This information collection is mandatory (15 U.S.C. 1601, 1604(a)). Since the Federal Reserve does not collect any information, no issue of confidentiality arises. Transaction- or account-specific disclosures and billing error allegations are not publicly available and are confidential between the creditor and the consumer. General disclosures of credit terms that appear in advertisements or take-one applications are available to the public.

Abstract: TILA and Regulation Z require disclosure of the costs and terms of credit to consumers. For open-end credit (revolving credit accounts), creditors are required to disclose information about the initial costs and terms and to provide periodic statements of account activity, notices of changes in terms, and statements of rights concerning billing error procedures. There are special disclosure requirements for credit and charge card applications and solicitations, as well as for home equity plans. For closed-end loans, such as mortgage and installment loans, cost disclosures are required to be provided prior to consummation. Special disclosures are required of certain products, such as reverse mortgages, certain variable rate loans, and certain mortgages with rates and fees above specified thresholds. TILA and Regulation Z also contain rules concerning credit advertising.

On March 3, 2006, the Federal Reserve published a notice soliciting comment on this proposal, Regulation Z (71 FR 10971). The comment period ended on May 2, 2006. The Federal Reserve did not receive any comments.

Board of Governors of the Federal Reserve System, May 9, 2006.
Jennifer J. Johnson
Secretary of the Board.

[FR Doc. E6-7303 Filed 5-12-06; 8:45 am]

BILLING CODE 6210-01-S